DEPARTMENT OF JUSTICE

Drug Enforcement Administration

[Docket No. DEA-392]

Importer of Controlled Substances Registration: Wildlife Laboratories, Inc.

ACTION: Notice of registration.

SUMMARY: Wildlife Laboratories, Inc., applied to be registered as an importer of certain basic classes of controlled substances. The Drug Enforcement Administration (DEA) grants Wildlife Laboratories, Inc. registration as an importer of those controlled substances.

SUPPLEMENTARY INFORMATION: By notice dated June 12, 2015, and published in the Federal Register on June 23, 2015, 80 FR 35975, Wildlife Laboratories, Inc., 1230 W. Ash Street, Suite D, Windsor, Colorado 80550 applied to be registered as an importer of certain basic classes of controlled substances. No comments or objections were submitted for this notice.

The DEA has considered the factors in 21 U.S.C. 823, 952(a) and 958(a) and determined that the registration of Wildlife Laboratories, Inc. to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances:

Controlled substance | Schedule
Etorphine (except HCl) (9056) | I
Etorphine HCl (9059) | II

The company plans to import the listed controlled substances for sale to its customer.

Dated: September 16, 2015.
Joseph T. Rannazzisi,
Deputy Assistant Administrator.

[FR Doc. 2015-24120 Filed 9-22-15; 8:45 am]

BILLING CODE 4410-09-P